RAILROAD RETIREMENT BOARD

20 CFR Parts 218, 220, and 225

RIN 3220-AB54

Retirement Age

AGENCY: Railroad Retirement Board.

ACTION: Proposed rule.

SUMMARY: The Board proposes to amend its regulations to update the references regarding age required for eligibility for an annuity and for the application of work deductions.

Full retirement age is no longer age 65, but instead ranges from age 65 for those born before 1938 to age 67 for those born in 1960 or later. The Board proposes to amend its regulations to replace obsolete references to “age 65” with a reference to “retirement age”.

DATES: In order for us to consider your comments on these specific proposals, the Board must receive them by August 16, 2002.

ADDRESSES: Submit comments in writing to Beatrice Ezerski, Secretary to the Board, Railroad Retirement Board, 844 North Rush Street, Chicago, Illinois 60611-2092.

FOR FURTHER INFORMATION CONTACT: For information specifically about these proposed rules, contact Michael C. Litt, General Attorney, Office of General Counsel, Railroad Retirement Board, (312)751-4929, TDD (312) 751-4701.

SUPPLEMENTARY INFORMATION: Section 106 of the Railroad Retirement Solvency Act of 1983, Public Law 98-76, amended the Railroad Retirement Act to replace references to “age 65” with “retirement age (as defined in section 216(l) of the Social Security Act).” Section 216(l) of the Social Security Act defines “retirement age” as follows: with respect to an individual who attains “early retirement age” before January 1, 2000, 65 years of age. “Early retirement age” is defined in the case of old-age, wife's or husband's insurance benefits, as age 62. With respect to individuals who attain early retirement age after December 31, 1999, the retirement age gradually increases.

The Board proposes to issue regulations that replace references to “age 65” with the phrase “retirement age” in order to conform the regulations to the above-described amendment.

Proposed Amendments

The Board proposes to amend parts 218, 220, and 225 to remove the words “age 65” and add in their place the words “full retirement age”.

The Board, with the concurrence of the Office of Management and Budget, has determined that this is not a significant regulatory action under Executive Order 12866; therefore, no regulatory impact analysis is required. There are no information collections associated with this rule.

List of Subjects

20 CFR Part 218

Railroad retirement, Reporting and recordkeeping requirements.

20 CFR Part 220

Railroad retirement.

20 CFR Part 225

Railroad retirement.

For the reasons stated in the preamble, the Railroad Retirement Board proposes to amend 20 CFR, chapter II, parts 218, 220, and 225 as follows:

PART 218—ANNUITY BEGINNING AND ENDING DATES

1. The authority citation for part 218 continues to read as follows:

Authority: 45 U.S.C. 231f(b)(5).

§§ 218.9, 218.12, 218.13, 218.16, 218.17, 218.36, 218.40, 218.43, and 218.44 [Amended]

2. In 20 CFR part 218, remove the words “age 65” wherever they appear and add in their place the words “full retirement age”.

a. § 218.9(a)(2);

b. § 218.12(b)(2)(ii);

c. § 218.13(b)(1)(ii), and § 218.13(b)(2)(ii);

d. § 218.16(b)(2)(ii);

e. § 218.17(b)(2)(ii);

f. § 218.36(a)(3), and § 218.36(b);

g. § 218.40(c)(4);

h. § 218.43(b)(3), and § 218.43(c)(6);

i. § 218.44(b)(3), and § 218.44(c)(6).

PART 220—DETERMINING DISABILITY

3. The authority citation for part 220 continues to read as follows:

Authority: 45 U.S.C. 231a; 45 U.S.C. 231f.

§ 220.161 [Amended]

4. Amend § 220.161 by removing the words “becomes 65 years old and the disability annuity is converted to an age annuity.”, and add in their place the words “attains retirement age and the disability annuity is converted to a full age annuity.”

§ 220.176 [Amended]

5. Amend § 220.176 by removing the words “age 65”, and adding in their place the words “full retirement age”.

PART 225—PRIMARY INSURANCE AMOUNT DETERMINATIONS

6. The authority citation for part 225 continues to read as follows:

Authority: 45 U.S.C. 231f(b)(5).

§ 225.2 [Amended]

7. Amend § 225.2 by removing the wording “216(I)” from the definition of “Base Years”, and adding in its place “216(l)”.

§ 225.30 [Amended]

8. Amend § 225.30(a) by removing the words “age 65”, and adding in their place the words “full retirement age”.

§ 225.34 [Amended]

9. Amend § 225.34 by:

a. Removing the words “age 65” from paragraph (a)(1), and adding in their place the words “full retirement age”;

b. Revising paragraph (b)(3); and

c. Adding a new paragraph (b)(4).

§ 225.34 How the amount of the DRC is figured.

* * * * *

(b) * * *

(3) Employee attains age 65 in 1990 and before 2003. (i) The rate of the DRC (one-fourth of one percent) is increased by one-twenty-fourth of one percent in each even year through 2002. Therefore, depending on when the employee attains age 65, the DRC percent will be as follows:

Year employee attains age 65 | Delayed retirement credit percent
1990 | 7/24 of 1%.
1991 | Do.
1992 | ⅓ of 1%.
1993 | Do.
1994 | ⅜ of 1%.
1995 | Do.
1996 | 5/12 of 1%.
1997 | Do.
1998 | 11/24 of 1%.
1999 | Do.
2000 | ½ of 1%.
2001 | Do.
2002 | 13/24 of 1%.

(ii) The delayed retirement credit equals the appropriate percent of the PIA times the number of months in which the employee is age 65 or older and for which credit is due.

(4) Employee attains full retirement age in 2003 or later. The rate of the DRC (one-fourth of one percent) is increased by one-twenty-fourth of one percent in each even year through 2008. Therefore, depending on when the employee attains full retirement age, the DRC percent will be as follows:

Year employee attains full retirement age | Delayed retirement credit percent
2003 | 13/24 of 1%.
2004 | 7/12 of 1%.
2005 | Do.
2006 | ⅝ of 1%.
2007 | Do.
2008 and later | ⅔ of 1%.

* * * * *

Dated: June 10, 2002.
By authority of the Board.
For the Board.
Beatrice Ezerski,
Secretary to the Board.

[FR Doc. 02-15104 Filed 6-14-02; 8:45 am]

BILLING CODE 7905-01-P